DEPARTMENT OF TRANSPORTATION

Federal Aviation Administration

Notice of Intent of Waiver With Respect to Land; Bolton Field Airport, Columbus, OH

AGENCY: Federal Aviation Administration (FAA), DOT.

ACTION: Notice.

SUMMARY: The FAA is considering a proposal to change 2.128 acres of airport land from aeronautical use to non-aeronautical use and to authorize the lease of airport property located at Bolton Field Airport, Columbus, OH. The aforementioned land is not needed for aeronautical use. The property is located in the northeast corner of the airport adjacent to the existing Columbus State Community College Building. The property is currently designated as aeronautical use for future hangar development. The proposed non-aeronautical use of the property is for the expansion of the Columbus State Community College Campus for the construction of a Fire Science Training Facility.

DATES: Comments must be received on or before February 23, 2018.

ADDRESSES: Documents are available for review by appointment at the FAA Detroit Airports District Office, Evonne M. McBurrows, Program Manager, 11677 South Wayne Road, Suite 107, Romulus, Michigan, 48174 Telephone: (734) 229-2900/Fax: (734) 229-2950 and Columbus Regional Airport Authority, 4600 International Gateway, Columbus, Ohio, and (614) 239-4000.

Written comments on the Sponsor's request must be delivered or mailed to: Evonne M. McBurrows, Program Manager, Federal Aviation Administration, Detroit Airports District Office, 11677 South Wayne Road, Suite 107, Romulus, Michigan, 48174, Telephone Number: (734) 229-2900/FAX Number: (734) 229-2950.

FOR FURTHER INFORMATION CONTACT: Evonne M. McBurrows, Program Manager, Federal Aviation Administration, Detroit Airports District Office, 11677 South Wayne Road, Suite 107, Romulus, Michigan, 48174. Telephone Number: (734) 229-2900/FAX Number: (734) 229-2950.

SUPPLEMENTARY INFORMATION: In accordance with section 47107(h) of Title 49, United States Code, this notice is required to be published in the Federal Register 30 days before modifying the land-use assurance that requires the property to be used for an aeronautical purpose.

The property is currently designated as aeronautical use for future corporate hangar development. This parcel of land (2.128 acres) was acquired with Airport Improvement Program (AIP) funds under AIP federal project number 8-39-0026-01. Columbus Regional Airport Authority (CRAA) proposed non-aeronautical use is for the expansion of Columbus State Community College (CSCC) campus which consists of construction of a Fire Science Training Facility. CRAA will lease the land to CSCC for 25 years and receive fair market value (FMV) for the duration of the lease.

The disposition of proceeds from the lease of the airport property will be in accordance with FAA's Policy and Procedures Concerning the Use of Airport Revenue, published in the Federal Register on February 16, 1999 (64 FR 7696).

This notice announces that the FAA is considering the release of the subject airport property at the Bolton Field Airport, Columbus, OH from its obligations to be maintained for aeronautical purposes. Approval does not constitute a commitment by the FAA to financially assist in the change in use of the subject airport property nor a determination of eligibility for grant-in-aid funding from the FAA.

Property Legal Description

Situate in the State of Ohio, County of Franklin, City of Columbus, lying in Survey No. 3026 of the Virginia Military District, being a part of the 380.25 acre tract conveyed as Tracts 22, 23, 24, 25, & 30 to Columbus Regional Airport Authority by deed of record in Instrument Number 200712310221193, (all records of the Recorder's Office, Franklin County, Ohio) and being more particularly described as follows;

Begin for reference at Franklin County Engineer Monument FCGS 5144 found at the centerline intersection of Lone Eagle Street (60 feet in width) dedicated by Plat Book 50, Page 9 and Alkire Road (varies in width);

Thence South 87°12′43″ East, a distance of 564.70 feet, along the centerline of Alkire Road to a magnetic nail set at the northwesterly corner of 6.811 acre Lease Area to Columbus State Community College;

Thence South 01°20′47″ West, a distance of 389.90 feet, across the said 380.25 acre tract along the westerly line of the said 6.811 acre Lease Area, passing a ¾ inch iron pipe found at 30.00 feet, to a ¾ inch iron pipe set at the Point of True Beginning for the herein described tract;

Thence the following courses and distances across the 380.25 acre tract:

1. South 01°20′47″ West, a distance of 556.65 feet, to a ¾ inch iron pipe set;

2. North 57°51′58″ West, a distance of 215.37 feet, to a ¾ inch iron pipe set;

3. North 01°20′47″ East, a distance of 445.56 feet, to a ¾ inch iron pipe set;

4. South 88°55′01″ East, a distance of 185.02 feet, to the Point of True Beginning, containing 2.128 acres, more or less. Being subject to all easements, restrictions and rights-of-way of record.

Issued in Romulus, Michigan, on January 4, 2018.
John L. Mayfield, Jr.,
Manager, Detroit Airports District Office, FAA, Great Lakes Region.

[FR Doc. 2018-01301 Filed 1-23-18; 8:45 am]

BILLING CODE 4910-13-P